DEPARTMENT OF THE TREASURY

Submission for OMB Review; Comment Request

July 30, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 27, 2002 to be assured of consideration.

Internal Revenue Service (IRS)

OMB Number: 1545-1781.

Form Number: IRS Form 2290-EZ.

Type of Review: Revision.

Title: Heavy Highway Vehicle Use Tax Return for Filers With a Single Vehicle.

Description: Representatives of the motor fuel industry, state governments, and Federal government are working to ensure compliance with excise taxes on motor fuels. This joint effort has resulted in a system to track the movement of all products to and from terminal. Forms 720-TO is an information return that will be used by terminal operators to report their monthly receipts and disbursements of products.

Respondents: Business or other for-profit.

Estimated Number of Respondents/Recordkeepers: 110,000.

Estimated Burden Hours Per Respondent/Recordkeeper:

Recordkeeping: 4 hr., 3 min.

Learning about the law or the form: 24 min.

Preparing, copying, assembling and sending the form to the IRS: 28 min.

Frequency of Response: Annually.

Estimated Total Reporting/Recordkeeping Burden: 544,500 hours.

OMB Number: 1545-1786.

Revenue Procedure Number: Revenue Procedures 2002-37, 2002-38 and 2002-39.

Type of Review: Extension.

Title: Changes in Periods of Accounting.

Description: The collections of information in these three (3) revenue procedures is necessary for the Commissioner to determine whether a taxpayer may properly obtain approval to adopt, change, or retain an annual accounting period.

Respondents: Business or other for-profit, Individuals or households, Not-for-profit institutions, Farms.

Estimated Number of Respondents: 800.

Estimated Burden Hours Per Respondent: 53 minutes.

Frequency of Response: On occasion, Other (once).

Estimated Total Reporting Burden: 700 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports, Management Officer.

[FR Doc. 02-21933 Filed 8-27-02; 8:45 am]

BILLING CODE 4830-01-P